DEPARTMENT OF ENERGY

Federal Energy Regulatory Commission

Combined Notice of Filings

December 23, 2008.

Take notice that the Commission has received the following Natural Gas Pipeline Rate and Refund Report filings:

Docket Numbers: RP91-143-059.

Applicants: Great Lakes Gas Transmission LP.

Description: Great Lakes Gas Transmission Limited Partnership submits their Interruptible/Overrun Revenue Sharing Report for November 2007-October 2008.

Filed Date: 12/19/2008.

Accession Number: 20081222-0240.

Comment Date: 5 p.m. Eastern Time on Wednesday, December 31, 2008.

Docket Numbers: RP96-389-090.

Applicants: Columbia Gulf Transmission Company.

Description: Columbia Gulf Transmission Company submits the FTS-1 Service Agreement 68436 with Williams Power Company dated December 5, 2000.

Filed Date: 12/15/2008.

Accession Number: 20081217-0042.

Comment Date: 5 p.m. Eastern Time on Monday, December 29, 2008.

Docket Numbers: RP98-18-039.

Applicants: Iroquois Gas Transmission System, L.P.

Description: Iroquois Gas Transmission System, LP submits First Revised Sheet 6R to FERC Gas Tariff, First Revised Volume 1.

Filed Date: 12/15/2008.

Accession Number: 20081216-0200.

Comment Date: 5 p.m. Eastern Time on Monday, December 29, 2008.

Docket Numbers: RP00-426-040.

Applicants: Texas Gas Transmission. LLC,

Description: Texas Gas Transmission, LLC submits First Revised Sheet 67 et al. to FERC Gas Tariff, Third Revised Volume 1.

Filed Date: 12/19/2008.

Accession Number: 20081223-0164.

Comment Date: 5 p.m. Eastern Time on Wednesday, December 31, 2008.

Docket Numbers: RP09-169-000.

Applicants: Texas Eastern Transmission LP.

Description: Texas Eastern Transmission, LP submits Third Revised Sheet 811 et al. to FERC Gas Tariff, Seventh Revised Volume 1.

Filed Date: 12/18/2008.

Accession Number: 20081222-0002.

Comment Date: 5 p.m. Eastern Time on Tuesday, December 30, 2008.

Docket Numbers: RP09-170-000.

Applicants: Kinder Morgan Interstate Gas Transmission.

Description: KMIGT 2008 Reconciliation Filing.

Filed Date: 12/19/2008.

Accession Number: 20081219-5100.

Comment Date: 5 p.m. Eastern Time on Wednesday, December 31, 2008.

Docket Numbers: RP09-171-000.

Applicants: Cheyenne Plains Gas Pipeline Company LLC.

Description: Cheyenne Plains Gas Pipeline Company, LLC submits Tenth Revised Sheet 1 et al. to its FERC Gas Tariff, Original Volume 1.

Filed Date: 12/19/2008.

Accession Number: 20081223-0166.

Comment Date: 5 p.m. Eastern Time on Wednesday, December 31, 2008.

Docket Numbers: RP09-172-000.

Applicants: Gulf South Pipeline Company, LP.

Description: Gulf South Pipeline Company, LP submits First Revised Sheet 3000 et al. to it FERC Gas Tariff, Sixth Revised Volume 1.

Filed Date: 12/19/2008.

Accession Number: 20081223-0169.

Comment Date: 5 p.m. Eastern Time on Wednesday, December 31, 2008.

Docket Numbers: RP09-173-000.

Applicants: Texas Eastern Transmission LP.

Description: Texas Eastern Transmission, LP submits First Revised Sheet 25 to its FERC Gas Tariff, First Revised Volume 2.

Filed Date: 12/19/2008.

Accession Number: 20081223-0168.

Comment Date: 5 p.m. Eastern Time on Wednesday, December 31, 2008.

Docket Numbers: RP09-174-000.

Applicants: Florida Gas Transmission Company, LLC.

Description: Florida Gas Transmission Company, LLC submits Fourteenth Revised Sheet 7 et al. to its FERC Gas Tariff, Fourth Revised Volume 1.

Filed Date: 12/19/2008.

Accession Number: 20081223-0167.

Comment Date: 5 p.m. Eastern Time on Wednesday, December 31, 2008.

Docket Numbers: RP09-175-000.

Applicants: Florida Gas Transmission Company, LLC.

Description: Florida Gas Transmission Company, LLC submits First Revised Sheet 30 et al. to its FERC Gas Tariff, Fourth Revised Volume 1, to be effective 1/19/09.

Filed Date: 12/19/2008.

Accession Number: 20081223-0165.

Comment Date: 5 p.m. Eastern Time on Wednesday, December 31, 2008.

Docket Numbers: RP09-176-000.

Applicants: B-R Pipeline Company.

Description: B-R Pipeline Company submits First Revised Sheet 0 et al. to FERC Gas Tariff, Original Volume 1.

Filed Date: 12/19/2008.

Accession Number: 20081222-0239.

Comment Date: 5 p.m. Eastern Time on Wednesday, December 31, 2008.

Docket Numbers: RP09-177-000.

Applicants: USG Pipeline Company.

Description: USG Pipeline Company submits First revised Sheet 0 et al. to FERC Gas Tariff, Original Volume 1.

Filed Date: 12/19/2008.

Accession Number: 20081222-0238.

Comment Date: 5 p.m. Eastern Time on Wednesday, December 31, 2008.

Docket Numbers: RP09-178-000.

Applicants: CenterPoint Energy Gas Transmission Company.

Description: CenterPoint Energy Gas Transmission Company submits Fourth revised Sheet 604 to FERC Gas Tariff, Sixth Revised Volume 1.

Filed Date: 12/19/2008.

Accession Number: 20081222-0241.

Comment Date: 5 p.m. Eastern Time on Wednesday, December 31, 2008.

Docket Numbers: RP09-179-000.

Applicants: El Paso Natural Gas Company.

Description: El Paso Natural Gas Co submits Thirty-Eighth Revised Sheet 1 to its FERC Gas Tariff, Second Revised Volume 1A.

Filed Date: 12/19/2008.

Accession Number: 20081222-0242.

Comment Date: 5 p.m. Eastern Time on Wednesday, December 31, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E8-31272 Filed 1-2-09; 8:45 am]

BILLING CODE 6717-01-P